DEPARTMENT OF HEALTH AND HUMAN SERVICES

Health Resources and Services Administration

Agency Information Collection Activities: Proposed Collection: Public Comment Request; Information Collection Request Title: Title V Maternal and Child Health Services Block Grant to States Program: Guidance and Forms for the Title V Application/Annual Report OMB No. 0915-0172—Revision

AGENCY: Health Resources and Services Administration (HRSA), Department of Health and Human Services.

ACTION: Notice.

SUMMARY: In compliance with the requirement for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR must be received no later than August 8, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: Title V Maternal and Child Health Services Block Grant to States Program: Guidance and Forms for the Title V Application/Annual Report, OMB No. 0915-0172—Revision

Abstract: HRSA is updating the Title V Maternal and Child Health Services Block Grant to States Program: Guidance and Forms for the Title V Application/Annual Report. This guidance is used annually by the 50 states and 9 jurisdictions (hereafter state) in applying for Block Grants under Title V of the Social Security Act and in preparing the required annual report. The updates proposed by HRSA's Maternal and Child Health Bureau (MCHB) for this edition of the guidance are intended to reinforce the role of the state in developing a Title V Maternal and Child Health (MCH) Action Plan that addresses its priority needs. These proposed updates further refine the reporting structure and vision that was outlined in the previous edition. As such, they are intended to enable a state to articulate its Title V program activities and leadership efforts for serving the MCH population. The proposed updates to the guidance are informed by comments received from state Title V MCH program leaders, national MCH leaders, and other MCH stakeholders.

Specific updates to this edition of the Title V Maternal and Child Health Services Block Grant to States Program: Guidance and Forms for the Title V Application/Annual Report include the following:

(1) The performance measure framework has been maintained, but a state has added flexibility to determine the best combination of National Performance Measures (NPMs) and State Performance Measures (SPMs) for addressing its identified MCH priority needs. States will address each priority need by either a NPM or SPM.

(2) The required minimum number of NPMs to be selected by a state has been reduced from eight to five. States will select at least one NPM in each of the five population health domains, specifically: (1) Women/Maternal Health; (2) Perinatal/Infant Health; (3) Child Health; (4) Children with Special Health Care Needs (CSHCN); and (5) Adolescent Health.

(3) A sixth and optional domain, Cross-cutting and Systems Building, has been added to replace the Cross-cutting/Life Course domain. The three NPMs that were formerly included in the Cross-cutting/Life Course domain (i.e., NPM #13A/B, NPM #14 A/B and NPM #15) have been incorporated into the relevant population health domain(s). No NPMs are included in the Cross-cutting and Systems Building domain; however, a state may choose to include a SPM in this domain if relevant to its priority needs.

(4) The focus on evidence-based or evidence-informed strategies and measures (ESMs) continues, with an enhanced definition of “evidence-base” provided. Clarifying instructions and state examples of ESMs have been added.

(5) Expectations around state Title V reporting on family/consumer partnership have been clarified. These expectations include enhanced discussion of specific program activities, the impact they have on all sectors of the MCH population, and their demonstrated value in improving MCH outcomes.

(6) The narrative reporting requirements around services for CSHCN have been strengthened to allow each state to identify and define the components of its system of services. States are also encouraged to reflect on the impact of these services within the context of the identified priority needs and the measures selected for the State Action Plan.

(7) Further anticipated reductions to state burden have been incorporated through more streamlined narrative reporting, particularly between the State Overview, Needs Assessment, and State Action Plan sections; clearer descriptions of expected content in each of the narrative sections; and refined instructions for completing the data reporting forms. Notable among these updates is the restructuring of the State Action Plan narrative discussion to allow a Title V program greater flexibility in describing its public health framework (e.g., life course model), leadership and partnership roles, cross-cutting strategies, and the leveraging of resources.

The full extent of the anticipated burden reduction will be realized over time as states become more familiar with the updated instructions and reporting requirements. The burden estimates presented in the table below are based on previous burden estimates and consultation with a few states.

Need and Proposed Use of the Information: Each year, states are required to submit an application/annual report for Federal funds for their Title V MCH Services Block Grant to States Program to HRSA's MCHB (Section 505(a) of Title V of the Social Security Act). In addition, each state is required to conduct a comprehensive needs assessment every 5 years. The information and instructions for the preparation and submission of this application/annual report are contained in the Title V Maternal and Child Health Services Block Grant to States Program: Guidance and Forms for the Title V Application/Annual Report.

Likely Respondents: Per section 505(a) of Title V of the Social Security Act, the MCH Block Grant application/annual report must be developed by, or in consultation with, the state MCH Health agency.

Burden Statement: Burden in this context means the time expended by persons to generate, maintain, retain, disclose, or provide the information requested. This estimate includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

In fiscal year (FY) 2019 and FY 2020, states will submit an application/annual report without the 5-year needs assessment summary for a total annual estimated burden of 7,080 hours. In FY 2021, states will submit an application/annual report with the 5-year needs assessment summary for a total estimated burden of 11,151 hours. As a result of the proposed revisions, average annual burden is projected to be reduced by approximately 700 hours.

Total Estimated Annualized Burden Hours:

Form name | Number of respondents | Number of responses per respondent | Total responses | Burden per response (in hours) | Total burden hours
Application and Annual Report without 5-Year Needs Assessment Summary | 59 | 1 | 59 | 120 | 7,080
Application and Annual Report with 5-Year Needs Assessment Summary | 59 | 1 | 59 | 189 | 11,151
Average Total Annual Burden | 59 |  | 59 |  | * 8,437
* Reflects the average of one Application/Annual Report with Needs Assessment Summary and two Application/Annual Reports without Needs Assessment Summary

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-12003 Filed 6-8-17; 8:45 am]

BILLING CODE 4165-15-P